DEPARTMENT OF COMMERCE

International Trade Administration

[A-823-812]

Carbon and Certain Alloy Steel Wire Rod from Ukraine: Notice of Rescission of Antidumping Administrative Review

AGENCY: Import Administration, International Trade Administration, Department of Commerce.

SUMMARY: In response to a request from JSC Kryvorizhstal, a Ukrainian producer of carbon and certain alloy steel wire rod, the Department of Commerce (the Department) initiated an administrative review of the antidumping duty order on carbon and certain alloy steel wire rod from Ukraine. See Initiation of Antidumping and Countervailing Duty Administrative Reviews and Deferral of Administrative Reviews, 70 FR 72107 (December 1, 2005) (Initiation Notice). The period of review (POR) covers October 1, 2004, through September 30, 2005. We are now rescinding this review because the respondent has withdrawn its request within 90 days of the initiation and is the only party to have requested the review. The respondent indicated that it is withdrawing its request because it realized, in preparing a response to the Department's questionnaire, that it did not have any reviewable U.S. transactions during the POR.

EFFECTIVE DATE: February 7, 2006.

FOR FURTHER INFORMATION CONTACT: Scot Fullerton or Christopher Riker, AD/CVD Operations, Office 9, Import Administration, International Trade Administration, U.S. Department of Commerce, 14th Street and Constitution Avenue, NW, Room 4003, Washington, DC 20230; telephone: (202) 482-1386 and (202) 482-3441, respectively.

SUPPLEMENTARY INFORMATION:

Background

The Department published an antidumping order on carbon and certain alloy steel wire rod from Ukraine on October 29, 2002. See Notice of Antidumping Duty Orders: Carbon and Certain Alloy Steel Wire Rod from Brazil, Indonesia, Mexico, Moldova, Trinidad and Tobago, and Ukraine, 67 FR 65945 (October 29, 2002). On October 3, 2005 the Department published a notice of “Opportunity to Request Administrative Review” of the antidumping duty order for the period of October 1, 2004 through September 30, 2005. See Antidumping or Countervailing Duty Order, Finding, or Suspended Investigation; Opportunity to Request Administrative Review, 70 FR 57558 (October 3, 2005). In accordance with 19 C.F.R. 351.213(b)(1), on October 28, 2005, respondent, JSC Kryvorizhstal, requested an administrative review of this order. In response to this request, the Department published the initiation of the antidumping duty administrative review on carbon and certain alloy steel wire rod from Ukraine on December 1, 2005. See Initiation Notice.

On December 12, 2005, we issued an antidumping questionnaire to JSC Kryvorizhstal to which we did not receive a response. However, on January 10, 2006, JSC Kryvorizhstal notified the Department that it did not have any reviewable U.S. transactions during the POR, and requested that this review be suspended or terminated.

See “Letter from JSC Kryvorizhstal re: Request for Suspension or Termination of Review” (January 10, 2006). If by requesting a “suspension,” JSC Kryvorizhstal meant to request a “deferral,” pursuant to section 351.213(c) of the Department's regulations, we note that a deferral is not appropriate here, as a deferral may only be requested prior to initiation of a review. As this review has already been initiated, we cannot defer the review. We address JSC Kryvorizhstal's alternative request for a “termination,” below.

Rescission of the Administrative Review

The Department's regulations at section 351.213(d)(1) provide that it will rescind an administrative review if the party that requested the review withdraws its request within 90 days of the date of publication of the notice of initiation of the requested review, or withdraws its request at a later date, if the Department determines that it is reasonable to extend the time limit for withdrawing the request. The respondent was the only party to request this review and properly withdrew its request, by requesting termination of the review, within the 90-day period. Accordingly, we are rescinding this administrative review.

The Department will issue appropriate assessment instructions to U.S. Customs and Border Protection within 15 days of publication of this notice. This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

This notice is issued and published in accordance with 19 CFR 351.213(d)(4) and section 777(i)(1) of the Tariff Act of 1930, as amended.

Dated: January 31, 2006.
Stephen J. Claeys,
Deputy Assistant Secretary for Import Administration.

[FR Doc. E6-1634 Filed 2-6-06; 8:45 am]

BILLING CODE 3510-DS-S